DEPARTMENT OF ENERGY

Federal Energy Regulatory Commission

[Docket Nos. CP12-72-000; PF11-9-000]

Dominion Transmission, Inc.; Clarification of Notice of Application

On February 24, 2012, the Commission issued a Notice of Application in the above referenced proceeding. This Notice clarifies that any party wishing to obtain legal status by becoming a party to the proceeding should file a motion to intervene prior to the close of the comment date. Only parties to the proceeding can seek rehearing of the Commission's order and then further ask for court review of Commission orders in the proceeding.

Additionally, persons only wishing to comment on the proceeding should file their comments on any aspect of the application with the Secretary of the Commission and the Commission will consider these comments in determining the appropriate action to be taken. The filing of a comment alone will not serve to make the filer a party to the proceeding.

In light of this clarification, comments will be due by 5 p.m. Eastern Time on March 30, 2012.

Dated: March 9, 2012.
Kimberly D. Bose,
Secretary.

[FR Doc. 2012-6366 Filed 3-15-12; 8:45 am]

BILLING CODE 6717-01-P